DEPARTMENT OF ENERGY

Federal Energy Regulatory Commission

Combined Notice of Filings

Take notice that the Commission has received the following Natural Gas Pipeline Rate and Refund Report filings:

Docket Numbers: RP15-773-000.

Applicants: Trailblazer Pipeline Company LLC.

Description: Annual Incidental Purchases and Sales Report of Trailblazer Pipeline Company LLC under RP15-773.

Filed Date: 3/30/15.

Accession Number: 20150330-5578.

Comments Due: 5 p.m. ET 5/4/15.

Docket Numbers: RP15-805-000.

Applicants: Vector Pipeline L. P.

Description: Annual Fuel Use Report of Vector Pipeline L. P. under RP15-805.

Filed Date: 3/31/15.

Accession Number: 20150331-5475.

Comments Due: 5 p.m. ET 5/4/15.

Docket Numbers: RP15-1029-000.

Applicants: Gulf Crossing Pipeline Company LLC.

Description: Section 4(d) rate filing per 154.204: Cap Rel Neg Rate Agmt (Vanguard 597, 598 to Tenaska 1728, 1729) to be effective 6/1/2015.

Filed Date: 6/1/15.

Accession Number: 20150601-5091.

Comments Due: 5 p.m. ET 6/15/15.

Docket Numbers: RP15-1030-000.

Applicants: Gulf South Pipeline Company, LP.

Description: Section 4(d) rate filing per 154.204: Cap Rel Neg Rate Agmt (Encana 37663 to BP 44703) to be effective 6/1/2015.

Filed Date: 6/1/15.

Accession Number: 20150601-5092.

Comments Due: 5 p.m. ET 6/15/15.

Docket Numbers: RP15-1031-000.

Applicants: Gulf South Pipeline Company, LP.

Description: Section 4(d) rate filing per 154.204: Cap Rel Neg Rate Agmts (CenterPoint(various) to BP(various) eff June 1) to be effective 6/1/2015.

Filed Date: 6/1/15.

Accession Number: 20150601-5093.

Comments Due: 5 p.m. ET 6/15/15.

Docket Numbers: RP15-1032-000.

Applicants: Gulf South Pipeline Company, LP.

Description: Section 4(d) rate filing per 154.204: Cap Rel Neg Rate Agmt (Willmut 35221 to BP 44724) to be effective 6/1/2015.

Filed Date: 6/1/15.

Accession Number: 20150601-5094.

Comments Due: 5 p.m. ET 6/15/15.

Docket Numbers: RP15-1033-000.

Applicants: Gulf South Pipeline Company, LP.

Description: Section 4(d) rate filing per 154.204: Cap Rel Neg Rate Agmts (Atlanta Gas 8438 to Various eff 6/1/15) to be effective 6/1/2015.

Filed Date: 6/1/15.

Accession Number: 20150601-5095.

Comments Due: 5 p.m. ET 6/15/15.

Docket Numbers: RP15-1034-000.

Applicants: Gulf South Pipeline Company, LP.

Description: Section 4(d) rate filing per 154.204: Amendments to Neg Rate Agmts (QEP 36601-43, 37657-153) to be effective 6/1/2015.

Filed Date: 6/1/15.

Accession Number: 20150601-5096.

Comments Due: 5 p.m. ET 6/15/15.

Docket Numbers: RP15-1035-000.

Applicants: Enable Gas Transmission, LLC.

Description: Section 4(d) rate filing per 154.204: Negotiated Rate Filing—June 2015- ANR 4026 Removal to be effective 6/1/2015.

Filed Date: 6/1/15.

Accession Number: 20150601-5097.

Comments Due: 5 p.m. ET 6/15/15.

Docket Numbers: RP15-1036-000.

Applicants: TC Offshore LLC.

Description: Section 4(d) rate filing per 154.204: Arena Amended Neg Rate Agmt to be effective 6/1/2015.

Filed Date: 6/1/15.

Accession Number: 20150601-5098.

Comments Due: 5 p.m. ET 6/15/15.

Docket Numbers: RP15-1037-000.

Applicants: Discovery Gas Transmission LLC.

Description: Section 4(d) rate filing per 154.403(d)(2): 2015 FL&U Submittal to be effective 7/1/2015.

Filed Date: 6/1/15.

Accession Number: 20150601-5103.

Comments Due: 5 p.m. ET 6/15/15.

Docket Numbers: RP15-1038-000.

Applicants: Dominion Transmission, Inc.

Description: Section 4(d) rate filing per 154.204: DTI—June 1, 2015 Nonconforming Service Agreements to be effective 7/1/2015.

Filed Date: 6/1/15.

Accession Number: 20150601-5105.

Comments Due: 5 p.m. ET 6/15/15.

Docket Numbers: RP15-1039-000.

Applicants: Eastern Shore Natural Gas Company.

Description: Section 4(d) rate filing per 154.204: Fuel Retention and Cash Out Adjustment Filing to be effective 7/1/2015.

Filed Date: 6/1/15.

Accession Number: 20150601-5116.

Comments Due: 5 p.m. ET 6/15/15.

Docket Numbers: RP15-1040-000.

Applicants: Equitrans, L.P.

Description: Section 4(d) rate filing per 154.204: Negotiated Capacity Release Agreements- 6/1/2015 to be effective 6/1/2015.

Filed Date: 6/1/15.

Accession Number: 20150601-5123.

Comments Due: 5 p.m. ET 6/15/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Filings in Existing Proceedings

Docket Numbers: RP15-618-002.

Applicants: Discovery Gas Transmission LLC.

Description: Compliance filing per 154.203: Gas Quality Compliance Filing to be effective 7/1/2015.

Filed Date: 6/1/15.

Accession Number: 20150601-5100.

Comments Due: 5 p.m. ET 6/15/15.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2015.
Nathaniel J. Davis, Sr.,
Deputy Secretary.

[FR Doc. 2015-14025 Filed 6-8-15; 8:45 am]

BILLING CODE 6717-01-P